DEPARTMENT OF THE TREASURY

Internal Revenue Service

Open Meeting of the Joint Committee of the Taxpayer Advocacy Panel

AGENCY: Internal Revenue Service (IRS) Treasury.

ACTION: Notice of meeting.

SUMMARY: An open meeting of the Joint Committee of the Taxpayer Advocacy Panel will be conducted via conference call. The Taxpayer Advocacy Panel is soliciting public comment, ideas, and suggestions on improving customer service at the Internal Revenue Service.

DATES: The meeting will be held Wednesday, February 25, 2009.

FOR FURTHER INFORMATION CONTACT: Susan Gilbert at (404) 338-7185.

SUPPLEMENTARY INFORMATION: Notice is hereby given pursuant to section 10(a)(2) of the Federal Advisory Committee Act, 5 U.S.C. App. (1988) that an open meeting of the Joint Committee of the Taxpayer Advocacy Panel (TAP) will be held Wednesday, February 25, 2009, at 3 p.m. Eastern Time via a conference call. If you would like to have the Joint Committee of TAP consider a written statement, please call (404) 338-7185 or write Susan Gilbert, TAP Office, Stop 211-D, 401 West Peachtree Street NW., Atlanta, GA, 30308-3520, or Fax to (404) 338-8691, or you can contact us at http://www.improveirs.org. For information to join the Joint Committee meeting, contact Susan Gilbert.

The agenda will include the following: Discussion of issues and responses brought to the Joint Committee, office report, and discussion of annual meeting.

Dated: December 22, 2008.
Roy L. Block,
Acting Director, Taxpayer Advocacy Panel.

[FR Doc. E9-162 Filed 1-8-09; 8:45 am]

BILLING CODE 4830-01-P